DEPARTMENT OF HEALTH AND HUMAN SERVICES

National Institutes of Health

National Cancer Institute; Notice of Closed Meeting

Pursuant to section 10(d) of the Federal Advisory Committee Act, as amended (5 U.S.C. Appendix 2), notice is hereby given of the meeting of the President's Cancer Panel.

The meeting will be closed to the public in accordance with the provisions set forth in sections 552b(c)(9)(b), Title 5 U.S.C., as amended, because the premature disclosure of information and the discussions would likely to significantly frustrate implementation of recommendations.

Name of Committee: President's Cancer Panel.

Date: May 24, 2007.

Time: 12:30 p.m. to 2:30 p.m.

Agenda: The Panel will review the final draft of 2006/2007 Annual Report to the President.

Place: National Cancer Institute, National Institutes of Health, Building 6116, Room 212, 6116 Executive Boulevard, Bethesda, MD 20892, (Telephone Conference Call).

Contact Person: Abby Sandler, PhD, Executive Secretary, Chief, Institute Review Office, Office of the Director, National Cancer Institute, National Institutes of Health, Building 6116, Room 212, MSC 8349, 6116 Executive Boulevard, Bethesda, MD 20892-8349, 301/451-9399, sandlera@mail.nih.gov.

Information is also available on the Institute's/Center's home page: deainfo.nci.nih.gov/advisory/pcp/pcp.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: April 26, 2007.
Jennifer Spaeth,
Director, Office of Federal Advisory Committee Policy.

[FR Doc. 07-2190 Filed 5-3-07; 8:45 am]

BILLING CODE 4140-01-M